DEPARTMENT OF COMMERCE

International Trade Administration

[A-570-831]

Continuation of Antidumping Duty Order: Fresh Garlic from the People's Republic of China

AGENCY: Import Administration, International Trade Administration, Department of Commerce.

SUMMARY: As a result of the determinations by the Department of Commerce (“Department”) and the International Trade Commission (“Commission”) that revocation of the antidumping duty order would be likely to lead to continuation or recurrence of dumping and material injury to an industry in the United States, pursuant to section 751(c) of the Tariff Act of 1930, as amended (“the Act”), the Department hereby orders the continuation of the antidumping duty order on fresh garlic from the People's Republic of China (“the PRC”). The Department is publishing this notice of continuation of the antidumping duty order in accordance with 19 CFR 351.218(f)(4).

EFFECTIVE DATE: October 19, 2006.

FOR FURTHER INFORMATION CONTACT: Hilary E. Sadler, Esq. or Juanita H. Chen, AD/CVD Operations, Office 8, Import Administration, International Trade Administration, U.S. Department of Commerce, 14th Street and Constitution Ave., NW, Washington, DC 20230; telephone: (202) 482-4340 or (202) 482-1904, respectively.

SUPPLEMENTARY INFORMATION:

Background

On February 1, 2006, the Department initiated and the Commission instituted a sunset review of the antidumping duty order on fresh garlic from the PRC pursuant to section 751(c) of the Act. See Initiation of Five-year (“Sunset”) Reviews, 71 FR 5243 (February 1, 2006). As a result of its review, the Department found that revocation of the antidumping duty order would be likely to lead to continuation or recurrence of dumping and notified the Commission of the magnitude of the margins likely to prevail were the order to be revoked. See Fresh Garlic from the People's Republic of China: Notice of Final Results of the Expedited Sunset Review of the Antidumping Duty Order, 71 FR 33279 (June 8, 2006).

The Commission determined, pursuant to section 751(c) of the Act, that revocation of the antidumping duty order on fresh garlic from the PRC would be likely to lead to continuation or recurrence of material injury to an industry in the United States within a reasonably foreseeable time. See Fresh Garlic from China, 71 FR 58630 (October 4, 2006) and USITC Publication 3886 (September 2006) (Inv. No. 731-TA-683 (Second Review)).

Scope of the Order

The products subject to the antidumping duty order are all grades of garlic, whole or separated into constituent cloves, whether or not peeled, fresh, chilled, frozen, provisionally preserved, or packed in water or other neutral substance, but not prepared or preserved by the addition of other ingredients or heat processing. The differences between grades are based on color, size, sheathing, and level of decay.

The scope of this order does not include the following: (a) garlic that has been mechanically harvested and that is primarily, but not exclusively, destined for non-fresh use; or (b) garlic that has been specially prepared and cultivated prior to planting and then harvested and otherwise prepared for use as seed.

The subject merchandise is used principally as a food product and for seasoning. The subject garlic is currently classifiable under subheadings 0703.20.0010, 0703.20.0020, 0703.20.0090, 0710.80.7060, 0710.80.9750, 0711.90.6000, and 2005.90.9700 of the Harmonized Tariff Schedule of the United States (“HTSUS”). Although the HTSUS subheadings are provided for convenience and customs purposes, the written description of the scope of this order is dispositive. In order to be excluded from the antidumping duty order, garlic entered under the HTSUS subheadings listed above that is (1) mechanically harvested and primarily, but not exclusively, destined for non-fresh use or (2) specially prepared and cultivated prior to planting and then harvested and otherwise prepared for use as seed must be accompanied by declarations to Customs and Border Protection to that effect.

Determination

As a result of the determinations by the Department and the Commission that revocation of this antidumping duty order would be likely to lead to continuation or recurrence of dumping and material injury to an industry in the United States, pursuant to sections 751(d)(2)(A) and (B) of the Act, the Department hereby orders the continuation of the antidumping duty order on fresh garlic from the PRC.

U.S. Customs and Border Protection will continue to collect antidumping duty deposits at the rates in effect at the time of entry for all imports of subject merchandise. The effective date of the continuation of this order is the date of publication in the Federal Register of this continuation notice. Pursuant to section 751(c)(2) of the Act, the Department intends to initiate the next five-year review of this antidumping order not later than October 2011.

This sunset review has been conducted in accordance with section 751(c) of the Act, and this continuation notice is published pursuant to section 777(i)(1) of the Act and 19 CFR 351.218(f)(4).

Dated: October 11, 2006.
David M. Spooner,
Assistant Secretary for Import Administration.

[FR Doc. E6-17358 Filed 10-18-06; 8:45 am]

BILLING CODE 3510-DS-S